DEPARTMENT OF THE INTERIOR

Bureau of Land Management

[LLIDI00000.L10200000.PH0000.LXSS024D0000.17XL.241.A; 4500105632]

Notice of Public Meeting, Idaho Falls District Resource Advisory Council and Idaho Falls District Recreation Resource Advisory Council, Idaho

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC) and Recreation RAC will meet as indicated below.

DATES: The Idaho Falls District RAC will meet on September 12 and 13, 2017.

ADDRESSES: The Idaho Falls District RAC will meet at the BLM Pocatello Field Office, 4350 Cliffs Drive, Pocatello, Idaho 83204.

FOR FURTHER INFORMATION CONTACT: Sarah Wheeler, Idaho Falls District, Idaho, 1405 Hollipark Drive, Idaho Falls, Idaho 83401, 208-524-7550, email at sawheeler@blm.gov. Persons who use a telecommunications device for the deaf (TDD) may contact Ms. Wheeler by calling the Federal Relay Service (FRS) at 800-877-8339. The FRS is available 24 hours a day, 7 days a week, to leave a message or question with Ms. Wheeler. You will receive a reply during normal business hours.

SUPPLEMENTARY INFORMATION: The 15-member RAC advises the Secretary of the Interior, through the Bureau of Land Management, on a variety of planning and management issues associated with public land management in Idaho.

The September 12th meeting will begin with new member orientation at 10:00 a.m. At 1:00 p.m., the full RAC will convene. The Recreation RAC will hear a fee-increase proposal from the Caribou-Targhee National Forest for five cabins on the Soda Springs and Montpelier Ranger Districts. Other topics will include items affecting the Pocatello Field Office such as phosphate mining, ongoing land health assessments, and travel management planning. A tour of a phosphate mine is scheduled for September 13, 2017. Limited space is available for the public to join the tour. Individuals who plan to attend and need special assistance (e.g., sign language interpretation, tour transportation, or other reasonable accommodations) should contact the BLM as indicated above to determine availability.

Additional topics may be added and will be included in local media announcements. The agenda will be available online at https://www.blm.gov/get-involved/resource-advisory-council/near-you/Idaho/idaho-falls-district-RAC.

The RAC meetings are open to the public. The public may present written comments to the Council at the address provided above. Each formal Council meeting will also have time allocated for hearing public comments. Public comment period for this meeting will take place from 1:00-1:30 p.m. on September 12, 2017. Depending on the number of persons wishing to comment and time available, the time for individual oral comments may be limited.

Before including your address, phone number, email address, or other personal identifying information in your comments, please be aware that your entire comment, including your personal identifying information, may be made publicly available at any time. While you can ask us in your comment to withhold your personal identifying information from public review, we cannot guarantee that we will be able to do so.

Authority: 43 CFR 1784.4-2.

Mary D'Aversa,
Idaho Falls District Manager.

[FR Doc. 2017-18702 Filed 9-1-17; 8:45 am]

BILLING CODE 4310-GG-P